DEPARTMENT OF COMMERCE

Patent and Trademark Office

Submission for OMB Review; Comment Request

The United States Patent and Trademark Office (USPTO) has submitted to the Office of Management and Budget (OMB) for clearance the following proposal for collection of information under the provisions of the Paperwork Reduction Act (44 U.S.C. Chapter 35).

Agency: United States Patent and Trademark Office (USPTO).

Title: Patent Processing (Updating).

Form Number(s): PTO/SB/08a/08b/21/22/23/24/24A/25/26/27/30/31/32/35/36/37/42/43/61/62/63/ 64/64a/67/68/91/92/96/97, PTO-2053-A/B, PTO-2054-A/B, PTO-2055-A/B, PTOL/413A, eIDS, EFS form.

Agency Approval Number: 0651-0031.

Type of Request: Extension of a currently approved collection.

Burden: 830,629 hours annually.

Number of Respondents: 2,208,339 responses per year.

Avg. Hours Per Response: The USPTO estimates that it will take anywhere from one minute 48 sections (0.03 hours) to eight hours (8.0 hours), depending on the amount of information that the applicant needs to submit to the USPTO, to complete the forms and requirements associated with this information collection. This includes time to gather the necessary information, create the documents, and submit the completed request.

Needs and Uses: During the pendency of a patent application or the period of enforceability of a patent, situations arise that require collection of information for the USPTO to further process the patented file or the patent application. This information can be used by the USPTO to continue the processing of the patent or application or to ensure that applicants are complying with the patent regulations. These situations involve responses filed by applicants to various USPTO actions and may include information disclosures and citations; requests for extensions of time; the establishment of small entity status; abandonment or revival of abandoned applications; disclaimers; appeals; expedited examination of design applications; transmittal forms; requests to inspect, copy and access patent applications; publication requests; and certificates of mailing/transmission.

Affected Public: Individuals or households; business or other for-profit; not-for-profit institutions; farms, the Federal Government, and State, Local or Tribal Governments.

Frequency: On occasion.

Respondent's Obligation: Required to obtain or retain benefits.

OMB Desk Officer: David Rostker, (202) 395-3897.

Copies of the above information collection proposal can be obtained by calling or writing Susan K. Brown, Records Officer, Office of Data Architecture and Services, Data Administration Division, U.S. Patent and Trademark Office, Suite 310, 2231 Crystal Drive, Arlington, VA 22202; by phone (703) 308-7400; or by e-mail at susan.brown@uspto.gov.

Written comments and recommendations for the proposed information collection should be sent on or before June 6, 2003 to David Rostker, OMB Desk Officer, Room 10202, New Executive Office Building, Washington, DC. 20503.

Dated: April 30, 2003.
Susan K. Brown,
Records Officer, USPTO, Office of Data Architecture and Services, Data Administration Division.

[FR Doc. 03-11245 Filed 5-6-03; 8:45 am]

BILLING CODE 3510-16-P